DEPARTMENT OF LABOR

Employment and Training Administration

[TA-W-41,022]

DT Magnetics International, Inc., Knightdale, NC; Notice of Revised Determination on Reconsideration

By letter dated June 15, 2002, a petitioner requested administrative reconsideration regarding the Department's Negative Determination Regarding Eligibility to Apply for Worker Adjustment Assistance, applicable to the workers of the subject firm.

The initial investigation resulted in a negative determination issued on May 31, 2002, based on the finding that imports did not contribute importantly to the layoffs at the subject plant. The denial notice was published in the Federal Register on June 21, 2002 (67 FR 42285).

The request for reconsideration is based on the allegation that all production at the subject plant was shifted to the Dominican Republic and China. The petitioner further attached a “Certification Regarding Eligibility to Apply for Worker Adjustment Assistance” for a sister plant (TA-W-40,468, DT Magnetics International, Inc., Dover, New Hampshire) producing the same products as the subject plant. That certification was based on the subject firm increasing imports of inductors and transformers.

The Department on further review of the initial investigation and data supplied in the TAA certified DT Magnetics International, Inc., Dover, New Hampshire plant, shows both locations produced inductors and transformers. The subject plant workers were not separately identifiable. The review also showed that subject plant production was shifted to the Dominican Republic and the company increased their reliance on imported inductors and transformers during the relevant period.

Conclusion

After careful review of the additional facts obtained on reconsideration, I conclude that increased imports of articles like or directly competitive with those produced at DT Magnetics, Inc., Knightdale, North Carolina contributed importantly to the declines in sales or production and to the total or partial separation of workers at the subject firm. In accordance with the provisions of the Act, I make the following certification:

All workers of DT Magnetics, Inc., Knightdale, North Carolina who became totally or partially separated from employment on or after February 18, 2001 through two years from the date of this certification, are eligible to apply for adjustment assistance under Section 223 of the Trade Act of 1974.

Signed in Washington, DC this 29th day of July 2002.
Edward A. Tomchick,
Director, Division of Trade Adjustment Assistance.

[FR Doc. 02-19966 Filed 8-6-02; 8:45 am]

BILLING CODE 4510-30-P